Title 3—

The President

Proclamation 7901 of May 13, 2005

Peace Officers Memorial Day and Police Week, 2005

By the President of the United States of America

A Proclamation

Across our Nation, the courageous men and women who protect our communities wear the uniform and badge with pride as they safeguard our families, homes, and communities. On Peace Officers Memorial Day and Police Week, we honor the memory of those heroes who have fallen in the line of duty and recognize all those who put themselves at risk in the fight against crime, violence, and terrorism.

More than 800,000 men and women serve as officers of the law in the United States. They serve in varying capacities, including as U.S. Marshals, county sheriffs, deputies, State patrolmen, municipal police, and Federal agents. They share the fundamental qualities of discipline, integrity, and courage. Since our Nation's founding, peace officers have upheld the rule of law and defended the innocent, and we are grateful to them and their families for all they do to strengthen our communities.

On Peace Officers Memorial Day, we pause to remember those who have made the ultimate sacrifice. These brave men and women accepted the responsibilities of a noble calling and were willing to face danger for our safety. By having their names engraved into the National Law Enforcement Officers Memorial in Washington, D.C., and praying for their families, we honor the memory of these fallen heroes and show the respect of a grateful Nation.

During Police Week and throughout the year, I urge all Americans to support law enforcement officers in the fight against crime. Every citizen can assist his or her local police force to help make our communities safer. Successful Citizen Corps programs like Neighborhood Watch and Volunteers in Police Service are making a difference in the lives of others, one heart and one neighborhood at a time. Information about these and other volunteer programs can be obtained by visiting the Citizen Corps website at citizencorps.gov. By working together, we can continue to build a safer America.

By a joint resolution approved October 1, 1962, as amended, (76 Stat. 676), the Congress has authorized and requested the President to designate May 15 of each year as “Peace Officers Memorial Day” and the week in which it falls as “Police Week,” and by Public Law 103-322, as amended, (36 U.S.C. 136), has directed that the flag be flown at half-staff on Peace Officers Memorial Day.

NOW, THEREFORE, I, GEORGE W. BUSH, President of the United States of America, do hereby proclaim May 15, 2005, as Peace Officers Memorial Day and May 15 through May 21, 2005, as Police Week. I call on all Americans to observe these events with appropriate ceremonies and activities. I also call on Governors of the United States and the Commonwealth of Puerto Rico, as well as appropriate officials of all units of government, to direct that the flag be flown at half-staff on Peace Officers Memorial Day. I further encourage all Americans to display the flag at half-staff from their homes and businesses on that day.

IN WITNESS WHEREOF, I have hereunto set my hand this thirteenth day of May, in the year of our Lord two thousand five, and of the Independence of the United States of America the two hundred and twenty-ninth.

B

[FR Doc. 05-10057

Filed 5-17-05; 8:58 am]

Billing code 3195-01-P